DEPARTMENT OF LABOR

Occupational Safety and Health Administration

[Docket No. OSHA-2018-0006]

OSHA's Alliance Program; Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the OSHA's Alliance Program.

DATES: Comments must be submitted (postmarked, sent, or received) by September 9, 2025.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2018-0006) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Belinda Cannon, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

OSHA created the Alliance Program in 2002 as a structure for working with groups that are committed to worker safety and health. The program enables OSHA to enter into a voluntary cooperative relationship at the national, regional, or Area Office level with industry, labor, and other groups to improve workplace safety and health; prevent workplace fatalities, injuries, and illnesses; and reach employers and workers that OSHA may not otherwise reach through its traditional methods. These groups include trade or professional organizations, businesses, unions, consulates, faith- and community-based organizations, and educational institutions. OSHA and the groups work together to share workplace safety and health information with workers and employers, encourage participation in OSHA agency initiatives, develop compliance assistance tools and resources, and educate workers and employers about their rights and responsibilities. Alliance Program participants do not receive exemptions from OSHA inspections or any other enforcement benefits.

OSHA collects information from organizations that are signatories to an Alliance agreement (known hereafter) as “alliance participants.” Information is collected from the participant through meetings, informal conversations and data forms to develop Alliance agreements, and to develop annual, as well as program-wide reports.

Alliance participants work with OSHA to develop agreements with well-defined goals and specific objectives and activities. Agreements commonly identify specific hazard(s), operations, or other areas of concern; the targeted segment within the workforce and the planned activities to meet the agreement's overarching goals and objectives. OSHA provides templates for Alliance agreements and gathers the necessary information from Alliance participants through meetings, informal conversations, and review of a draft agreement.

Alliance participants also provide OSHA information about their Alliance-related activities, including dissemination of educational materials, outreach events and training for OSHA staff. This information is collected using a data form (bi-annually) or through routine meetings and includes an estimated number reached for each activity as well as the areas associated with those activities that OSHA emphasizes.

OSHA uses the information from the forms (National Alliances) and collaborative data gathering (Regional and Area Office Alliances) to compile annual evaluations for individual Alliances and assess the effectiveness of the individual Alliance in meeting agreement goals and objectives. OSHA uses aggregate data from active Alliances to assess the impact of the program, as a whole, in meeting the agency's strategic plan goals and strategies related to outreach and communication. The success experienced by these Alliances, when shared, can serve as a means to further promote improvement in worker safety and health.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is seeking OMB approval to extend the information collection requirements contained in the OSHA's Alliance Program. The agency is requesting an adjustment increase in burden going from 14,318 to 15,930, a total increase of 1,612 hours. The adjustment increase is due to an increase in the number of national and regional/area office alliances and an accompanying decrease in administrative burdens associated with alliances that have been promoted to Ambassador status.

OSHA will summarize the comments submitted in response to this notice and will include this summary in the request to OMB to extend the approval of the information collection requirements.

Type of Review: Extension of a currently approved collection.

Title: OSHA's Alliance Program.

OMB Control Number: 1218-0274.

Affected Public: Business or other for-profits.

Number of Respondents: 336.

Number of Responses: 5,129.

Frequency of Responses: On occasion.

Average Time per Response: Varies.

Estimated Total Burden Hours: 15,930.

Estimated Cost (Operation and Maintenance): 0.

IV. Public Participation—Submission of Comments on This Notice and Internet Access to Comments and Submissions

You may submit comments in response to this document as follows: (1) electronically at https://www.regulations.gov, which is the Federal eRulemaking Portal; or (2) by facsimile (fax), if your comments, including attachments, are not longer than 10 pages you may fax them to the OSHA Docket Office at (202) 693-1648. All comments, attachments, and other material must identify the agency name and the OSHA docket number for the ICR (Docket No. OSHA-2018-0006). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link. Contact the OSHA Docket Office at (202) 693-2350, (TTY (877) 889-5627) for information about materials not available from the website, and for assistance in using the internet to locate docket submissions.

V. Authority and Signature

Amanda Laihow, Acting Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on July 3, 2025.
Amanda Laihow,
Acting Assistant Secretary of Labor for Occupational Safety and Health.

[FR Doc. 2025-12908 Filed 7-10-25; 8:45 am]

BILLING CODE 4510-26-P